DEPARTMENT OF ENERGY

Federal Energy Regulatory Commission

Combined Notice of Filings #1

Take notice that the Commission received the following electric corporate filings:

Docket Numbers: EC12-106-000.

Applicants: Arizona Public Service Company.

Description: Arizona Public Service Company submits application requesting authorization for the acquisition of Southern California Edison Company's ownership interests in Units 4 and 5 etc.

Filed Date: 5/31/12.

Accession Number: 20120601-0201.

Comments Due: 5 p.m. ET 6/21/12.

Take notice that the Commission received the following exempt wholesale generator filings:

Docket Numbers: EG12-71-000.

Applicants: Patton Wind Farm, LLC.

Description: Notice of Self-Certification of Patton Wind Farm, LLC as an Exempt Wholesale Generator.

Filed Date: 6/1/12.

Accession Number: 20120601-5279.

Comments Due: 5 p.m. ET 6/22/12.

Docket Numbers: EG12-72-000.

Applicants: Big Savage, LLC.

Description: Notice of Self-Certification of Big Savage, LLC as an Exempt Wholesale Generator.

Filed Date: 6/1/12.

Accession Number: 20120601-5280.

Comments Due: 5 p.m. ET 6/22/12.

Docket Numbers: EG12-73-000.

Applicants: Pacific Wind Lessee, LLC.

Description: Notice of Self-Certification of Exempt Wholesale Generator Status of Pacific Wind Lessee, LLC under EG12-73.

Filed Date: 6/1/12.

Accession Number: 20120601-5351.

Comments Due: 5 p.m. ET 6/22/12.

Take notice that the Commission received the following electric rate filings:

Docket Numbers: ER12-1457-001.

Applicants: Southern California Edison Company.

Description: Amendment to GIA and DSA for San Gorgonio Farms Wind Farm Proj to be effective 3/23/2012.

Filed Date: 6/1/12.

Accession Number: 20120601-5310.

Comments Due: 5 p.m. ET 6/22/12.

Docket Numbers: ER12-1566-001.

Applicants: Copper Mountain Solar 2, LLC.

Description: Copper Mountain Solar 2, LLC MBR Tariff Revision to be effective 6/18/2012.

Filed Date: 5/30/12.

Accession Number: 20120530-5263.

Comments Due: 5 p.m. ET 6/20/12.

Docket Numbers: ER12-1792-001.

Applicants: Community Energy, Inc.

Description: Amendment to MBR Application to be effective 7/14/2012.

Filed Date: 6/1/12.

Accession Number: 20120601-5311.

Comments Due: 5 p.m. ET 6/22/12.

Docket Numbers: ER12-1919-000.

Applicants: PJM Interconnection, L.L.C.

Description: PJM Queue No. W2-049; Original Service Agreement No. 3323 to be effective 5/1/2012.

Filed Date: 6/1/12.

Accession Number: 20120601-5319.

Comments Due: 5 p.m. ET 6/22/12.

Docket Numbers: ER12-1920-000.

Applicants: Entergy Services, Inc.

Description: Entergy Services, Inc. submits the payment/receipts among the Entergy Operating Companies to implement the decision of the Commission.

Filed Date: 5/31/12.

Accession Number: 20120601-0203.

Comments Due: 5 p.m. ET 6/21/12.

Docket Numbers: ER12-1921-000.

Applicants: PJM Interconnection, L.L.C.

Description: Original Service Agreement No. 3317; Queue No. W3-110 to be effective 5/22/2012.

Filed Date: 6/1/12.

Accession Number: 20120601-5259.

Comments Due: 5 p.m. ET 6/22/12.

Docket Numbers: ER12-1922-000.

Applicants: Southern California Edison Company.

Description: GIA and Distribution Service Agmt Palm Springs Municipal Complex Cogeneration to be effective 6/1/2012.

Filed Date: 6/1/12.

Accession Number: 20120601-5260.

Comments Due: 5 p.m. ET 6/22/12.

Docket Numbers: ER12-1923-000.

Applicants: Big Savage, LLC.

Description: Market-Based Rate Application to be effective 8/1/2012.

Filed Date: 6/1/12.

Accession Number: 20120601-5267.

Comments Due: 5 p.m. ET 6/22/12.

Docket Numbers: ER12-1924-000.

Applicants: EverPower Commercial Services LLC.

Description: Market-Based Rate Application to be effective 8/1/2012.

Filed Date: 6/1/12.

Accession Number: 20120601-5268.

Comments Due: 5 p.m. ET 6/22/12.

Docket Numbers: ER12-1925-000.

Applicants: Patton Wind Farm, LLC.

Description: Market-Based Rate Application to be effective 8/1/2012.

Filed Date: 6/1/12.

Accession Number: 20120601-5270.

Comments Due: 5 p.m. ET 6/22/12.

Docket Numbers: ER12-1926-000.

Applicants: Independence Electricity.

Description: Baseline MBR Application to be effective 6/30/2012.

Filed Date: 6/1/12.

Accession Number: 20120601-5291.

Comments Due: 5 p.m. ET 6/22/12.

Docket Numbers: ER12-1927-000.

Applicants: PJM Interconnection, L.L.C.

Description: Original Service Agreement No. 3321; Queue No. W3-120 to be effective 5/9/2012.

Filed Date: 6/1/12.

Accession Number: 20120601-5292.

Comments Due: 5 p.m. ET 6/22/12.

Docket Numbers: ER12-1928-000.

Applicants: Midwest Independent Transmission System Operator, Inc.

Description: G551 Amended GIA to be effective 6/2/2012.

Filed Date: 6/1/12.

Accession Number: 20120601-5294.

Comments Due: 5 p.m. ET 6/22/12.

Docket Numbers: ER12-1929-000.

Applicants: PJM Interconnection, L.L.C.

Description: Revisions to the PJM Tariff re Marginal Losses to be effective 8/1/2012.

Filed Date: 6/1/12.

Accession Number: 20120601-5298.

Comments Due: 5 p.m. ET 6/22/12.

Docket Numbers: ER12-1930-000.

Applicants: PacifiCorp.

Description: Moon Lake Revised Wheeling Agreement to be effective 8/1/2012.

Filed Date: 6/1/12.

Accession Number: 20120601-5300.

Comments Due: 5 p.m. ET 6/22/12.

Docket Numbers: ER12-1931-000.

Applicants: Pacific Wind Lessee, LLC.

Description: Pacific Wind Lessee Baseline MBR Application Filing to be effective 6/25/2012.

Filed Date: 6/1/12.

Accession Number: 20120601-5302.

Comments Due: 5 p.m. ET 6/22/12.

Docket Numbers: ER12-1932-000.

Applicants: Franklin County Wind, LLC.

Description: FCW Market-Based Rate Tariff to be effective 8/1/2012.

Filed Date: 6/1/12.

Accession Number: 20120601-5303.

Comments Due: 5 p.m. ET 6/22/12.

Docket Numbers: ER12-1933-000.

Applicants: Interstate Power and Light Company.

Description: IPL Market-Based Rate Tariff to be effective 8/1/2012.

Filed Date: 6/1/12.

Accession Number: 20120601-5304.

Comments Due: 5 p.m. ET 6/22/12.

Docket Numbers: ER12-1934-000.

Applicants: Wisconsin Power and Light Company.

Description: WPL Market-Based Rate Tariff to be effective 8/1/2012.

Filed Date: 6/1/12.

Accession Number: 20120601-5305.

Comments Due: 5 p.m. ET 6/22/12.

Docket Numbers: ER12-1935-000.

Applicants: Southern California Edison Company.

Description: GIA and Distribution Service Agreement with Lake Shore Mojave, LLC to be effective 6/1/2012.

Filed Date: 6/1/12.

Accession Number: 20120601-5308.

Comments Due: 5 p.m. ET 6/22/12.

Docket Numbers: ER12-1936-000.

Applicants: Southern California Edison Company.

Description: GIA and Distribution Service Agreement with US Borax Inc. to be effective 6/1/2012.

Filed Date: 6/1/12.

Accession Number: 20120601-5312.

Comments Due: 5 p.m. ET 6/22/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 4, 2012.
Nathaniel J. Davis, Sr.,
Deputy Secretary.

[FR Doc. 2012-14055 Filed 6-8-12; 8:45 am]

BILLING CODE 6717-01-P